DEPARTMENT OF ENERGY

Federal Energy Regulatory Commission

[Docket No. RP02-72-001]

Midwestern Gas Transmission Company; Notice of Compliance Tariff Filing

January 23, 2002.

In accordance with the Commission's order at Docket No. RP02-72-000 dated December 31, 2001, 97 FERC 61,388, Midwestern hereby files the following compliance tariff sheets:

First Revised Sheet No. 225

First Revised Sheet No. 227

First Revised Sheet No. 228

In the December 31, 2001 Order, the Commission rejected Midwestern's proposal to require that off-hour hourly nomination requests be made via facsimile. By this filing, Midwestern's First Revised Sheet No. 225 complies with the December 31, 2001 order and reflects that requests for off-hour hourly nominations be made electronically, via the System. In the December 31, 2001 order, the Commission also rejected Midwestern's proposal to modify its scheduling priorities. Midwestern is filing First Revised Sheet No. 227, Subsection 3.7 of its General Terms and Conditions, to eliminate the distinction between nominations made within a shipper's contracted path and nominations outside of a shipper's contracted path. Due to this change, the paragraphs of Subsection 3.7 of the General Terms and Conditions have been renumbered; therefore, First Revised Sheet No. 228 is filed herein.

Copies of this filing have been sent to all parties of record in this proceeding.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-2105 Filed 1-28-02; 8:45 am]

BILLING CODE 6717-01-P